DEPARTMENT OF DEFENSE

Office of the Secretary

[DOD-2007-OS-0011]

Privacy Act of 1974; System of Records

AGENCY: Office of the Secretary, DoD.

ACTION: Notice to Add a System of Records.

SUMMARY: The Office of the Secretary of Defense proposes to add a system of records to its inventory of record systems subject to the Privacy Act of 1974 (5 U.S.C. 552a), as amended.

DATES: The changes will be effective on March 29, 2007 unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on February 16, 2007, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: February 20, 2007.
C.R. Choate,
Alternate OSD Federal Register Liaison Officer, Department of Defense.

DUSDA 13

System name:

War Souvenir Registration/Authorization.

System location:

United States Transportation Command (USTRANSCOM), ATTN: TCJ5/4-PT, 508 Scott Drive, Scott AFB, IL 62225-5357.

Categories of individuals covered by the system:

Military and DoD civilian personal serving in overseas theaters.

Categories of records in the system:

Name, Social Security Number (SSN), Rank or Grade, Unit/Organization, home address, and war souvenir description, and overseas theater.

Authority for maintenance of the system:

10 U.S.C. Part IV, Chapter 153, Sec 2579; DoDD 5030.40, DoD Customs and Border Clearance Program; DoD 4500.9R Defense Transportation Regulation, Part V DoD Customs and Border Clearance Policies and Procedures; and E.O. 9397 (SSN).

Purpose(s):

To register and authorize an individual to retain a war souvenir and to return the item to the United States.

Routine uses of records maintained in the system, including categories of users and the purposes of such uses:

In addition to those disclosures generally permitted under 5 U.S.C. 552a(b) of the Privacy Act, these records or information contained therein may specifically be disclosed outside the DoD as a routine use pursuant to 552a(b)(3) as follows:

The DoD “Blanket Routine Uses” set forth at the beginning of OSD's compilation of systems of records notices apply to this system.

Policies and practices for storing, retrieving, accessing, retaining, and disposing of records in the system:

Storage:

Paper in file folders.

Retrievability:

Name and Social Security Number (SSN).

Safeguards:

Access to the records is limited to those who require the records in the performance of their official duties. Physical entry is restricted by the use of locks, guards, and administrative procedures.

Retention and disposal:

Disposition pending approval of records disposition schedule by the National Records and Administration Agency.

System manager(s) and address:

United States Transportation Command (USTRANSCOM), ATTN: TCJ5/4-PT—Transportation Specialist, 508 Scott Drive, Scott AFB, IL 62225-5357.

Notification procedure:

Individuals seeking to determine whether information about themselves is contained in this system of records should address written inquiries to the United States Transportation Command (USTRANSCOM), ATTN: TCJ5/4-PT-Transportation Specialist, 508 Scott Drive, Scott AFB, IL 62225-5357.

Requests should contain individual's name, address, Social Security Number (SSN), unit, Company Commander/Contracting Officer's Representative, and date requested war souvenir registration.

Record access procedures:

Individuals seeking access to information about themselves contained in this system of records should address written inquiries to the United States Transportation Command (USTRANSCOM), ATTN: TCJ5/4-PT-Transportation Specialist, 508 Scott Drive, Scott AFB, IL 62225-5357.

Requests should contain individual's name, address, Social Security Number (SSN), unit, Company Commander/Contracting Officer's Representative, and date requested war souvenir registration.

Record source categories:

From the individual.

Exemptions claimed for the system:

None.

[FR Doc. E7-3300 Filed 2-26-07; 8:45 am]

BILLING CODE 5001-06-P